DEPARTMENT OF HEALTH AND HUMAN SERVICES

Health Resources and Services Administration

Agency Information Collection Activities: Proposed Collection; Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, e-mail paperwork@hrsa.gov or call the HRSA Reports Clearance Officer at (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Evaluation of the State Early Childhood Comprehensive Systems (ECCS) Grant Program: New

HRSA's Maternal and Child Health Bureau (MCHB) is conducting an assessment of MCHB's State Early Childhood Comprehensive Systems (ECCS) Grant Program. The purpose of the ECCS Grant Program is to assist States and Territories in their efforts to build and implement Statewide ECCS that support families and communities in their development of children that are healthy and ready to learn at school entry. These systems must be multi-agency and be comprised of the key public and private agencies that provide services and resources to support families and communities in providing for the healthy physical, social, and emotional development of all young children. Grantees are also charged with addressing seven key elements of early childhood comprehensive systems: (1) Governance, (2) financing, (3) communications, (4) family leadership development, (5) provider/practitioner support, (6) standards, and (7) monitoring/accountability. ECCS funding is offered to 52 States and Jurisdictions.

An evaluation will be conducted to: (1) Identify and analyze the strategies that grantees and partners are using to build comprehensive early childhood systems, (2) measure the level of progress grantees have made in meeting both the overarching Federal goals and objectives for ECCS grantees and those of their statewide plans, and (3) assess the effectiveness of grantees' early childhood systems development activities. The information from the evaluation will supplement and enhance MCHB's current data collection efforts by providing a quantifiable, standardized, systematic mechanism for collecting information across the funded implementation grantees. The results will also provide MCHB with timely feedback on the achievements of the ECCS Program and identify potential areas for improvement which will inform program planning and operational decisions.

Data collection tools for which OMB approval is being requested include Web-based surveys, telephone interviews, and a Web-based indicator reporting system. Web-based surveys are intended to collect information from all grantees regarding the structure and functioning of the State Team, the nature of activities, and perceptions of progress made in achieving outcomes. One survey will be directed at ECCS Coordinators while a second similar, but shorter survey will be directed at selected State Team members (5 State Team members from each State). The telephone interviews will be conducted with ECCS Coordinators to collect more detailed information on how early childhood services have been integrated, challenges and successes of implementation, and how the activities are designed to improve the lives of children and families. ECCS Coordinators will also be asked to enter information on three early child and family outcome indicators and provide a theory of change, or rationale, on how a specific ECCS activity or set of related activities will produce a measurable change in each outcome indicator.

Respondents: ECCS Coordinators and State Team members from the 52 grantees will be the primary respondents for the instruments. The estimated response burden is as follows:

Estimated Annualized Burden Table
Forms | Type of respondent | Number of respondents | Number of responses per respondent | Average burden hours per response | Total burden hours
Web-based Survey | ECCS Coordinators | 52 | 1 | 0.75 | 39
Web-based Survey | State Team Members | 260 | 1 | 0.3 | 78
Telephone Interview | ECCS Coordinators | 52 | 1 | 1.5 | 78
Indicator Reporting System | ECCS Coordinators | 52 | 1 | 1.5 | 78
Total |  | 416 |  |  | 273

E-mail comments to paperwork@hrsa.gov or mail the HRSA Reports Clearance Officer, Room 10-33, Parklawn Building, 5600 Fishers Lane, Rockville, MD 20857. Written comments should be received within 60 days of this notice.

Dated: July 16, 2009.
Alexandra Huttinger,
Director, Division of Policy Review and Coordination.

[FR Doc. E9-17429 Filed 7-22-09; 8:45 am]

BILLING CODE 4165-15-P